DEPARTMENT OF HEALTH AND HUMAN SERVICES

Substance Abuse and Mental Health Services Administration

Notice of Meetings

Pursuant to Public Law 92-463, notice is hereby given of the meetings of three Substance Abuse and Mental Health Services Administration (SAMHSA) advisory councils (Center for Mental Health Services National Advisory Council, Center for Substance Abuse Prevention National Advisory Council, and Center for Substance Abuse Treatment National Advisory Council) in September 2010.

The meeting will be a combined session of the three councils and will be open to the public. The Councils were established to advise the Secretary, Department of Health and Human Services (HHS), the Administrator, SAMHSA, and Centers Directors, concerning matters relating to the activities carried out by and through the Agency and Centers and the policies respecting such activities.

The agenda will include a report from the SAMHSA Administrator and discussions related to SAMHSA's strategic initiatives that will focus on the Agency's work in improving lives and capitalizing on emerging opportunities that advance and protect the Nation's health.

Attendance by the public will be limited to space available. Public comments are welcome. The meeting can also be accessed via web stream. To obtain the call-in numbers and access codes, to submit written or brief oral comments, or to request special accommodations for persons with disabilities, please register on-line at https://nac.samhsa.gov/Registration/meetingsRegistration.aspx. You may also communicate with the SAMHSA's Committee Management Officer, Ms. Toian Vaughn (see contact information below). Substantive program information and a roster of Council members may be obtained from the contact whose name and telephone number are listed below.

Committee Names: Center for Mental Health Services National Advisory Council, Center for Substance Abuse Prevention National Advisory Council, Center for Substance Abuse Treatment National Advisory Council.

Meeting Date(s): September 28, 2010.

Place: SAMHSA, 1 Choke Cherry Road, Sugarloaf and Seneca Conference Rooms, Rockville, Maryland 20857.

Open: September 28, 2010, 8:30 a.m.-4 p.m.

Contact: Toian Vaughn, M.S.W., Committee Management Officer, SAMHSA National Advisory Council, 1 Choke Cherry Road, Rockville, Maryland 20857, Telephone (240) 276-2307, Fax: (240) 276-2220 and E-mail: toian.vaughn@samhsa.hhs.gov.

The Center for Mental Health Services National Advisory Council will hold an individual meeting on September 27. This meeting will be open to the public and will include a report from the Director, a discussion on SAMHSA's strategic initiatives, and discussions concerning issues on SAMHSA's appropriation and budget and current administrative developments.

Attendance by the public will be limited to space available. Public comments are welcome. Please register on-line at https://nac.samhsa.gov/Registration/meetingsRegistration.aspx. You may also communicate with the CMHS Designated Federal Official (DFO), Ms. Carol Watkins (see contact information below) to request special accommodations for persons with disabilities. Substantive program information and a roster of Council members may be obtained from the DFO.

Committee Names: Center for Mental Health Services National Advisory Council.

Meeting Date(s): September 27, 2010.

Place: SAMHSA, 1 Choke Cherry Road, Sugarloaf Conference Room, Rockville, Maryland 20857.

Open: September 27, 2010, 11 a.m.-4 p.m.

Contact: Carol Watkins, Designated Federal Official, CMHS National Advisory Council, 1 Choke Cherry Road, Room 6-1063, Rockville, Maryland 20857, Telephone (240) 276-2254, Fax: (240) 276-1395 and E-mail: carol.watkin2@samhsa.hhs.gov.

The Center for Substance Abuse Prevention National Advisory Council will hold an individual meeting on September 27. The meeting will be open to the public and include a report from the Director, a discussion on SAMHSA's strategic initiatives, and discussions on current administrative, legislative and program developments.

Attendance by the public will be limited to space available. Public comments are welcome. Please register on-line at https://nac.samhsa.gov/Registration/meetingsRegistration.aspx. You may also communicate with the CSAP Designated Federal Official (DFO), Mr. Michael Muni (see contact information below) to request special accommodations for persons with disabilities. Substantive program information and a roster of Council members may be obtained from the DFO.

Committee Names: Center for Substance Abuse Prevention National Advisory Council.

Meeting Date(s): September 27, 2010.

Place: SAMHSA, 1 Choke Cherry Road, Great Falls Conference Room, Rockville, Maryland 20857.

Open: September 27, 2010, 1 p.m.-4 p.m.

Contact: Michael Muni, Designated Federal Officer, CSAP National Advisory Council, 1 Choke Cherry Road, Rockville, Maryland 20857, Telephone (240) 276-2559, Fax: (240) 276-2430, E-mail: Michael.muni@samhsa.hhs.gov.

The Center for Substance Abuse Treatment National Advisory Council will hold an individual meeting on September 27. This meeting will be open to the public and will include a Director's report, a discussion on SAMHSA's strategic initiatives, and discussions concerning issues on SAMHSA's appropriation and budget and current administrative developments.

Attendance by the public will be limited to space available. Public comments are welcome. Please register on-line at https://nac.samhsa.gov/Registration/meetingsRegistration.aspx. You may also communicate with the CSAT Designated Federal Official (DFO), Ms. Cynthia Graham (see contact information below) to request special accommodations for persons with disabilities. Substantive program information and a roster of Council members may be obtained from the DFO.

Committee Names: Center for Substance Abuse Treatment National Advisory Council

Meeting Date(s): September 27, 2010

Place: SAMHSA, 1 Choke Cherry Road, Seneca Conference Room, Rockville, Maryland 20857.

Open: September 27, 2010, 1 p.m.-4 p.m.

Contact: Cynthia Graham, Designated Federal Official, CSAT National Advisory Council, 1 Choke Cherry Road, Rockville, Maryland 20857, Telephone (240) 276-1692, Fax: (240) 276-1690, E-mail: cynthia.graham@samhsa.hhs.gov.

Dated: September 9, 2010.
Toian Vaughn,
Committee Management Officer, Substance Abuse and Mental Health Services Administration.

[FR Doc. 2010-22954 Filed 9-14-10; 8:45 am]

BILLING CODE 4162-20-P